CORPORATION FOR NATIONAL AND COMMUNITY SERVICE

Privacy Act of 1974; System of Records

AGENCY: Corporation for National and Community Service.

ACTION: Notice of modified systems of records.

SUMMARY: In accordance with the Privacy Act of 1974, as amended, the Office of the Chief Program Officer of the Corporation for National and Community Service (operating as AmeriCorps) is issuing a public notice of its intent to modify a system of records, “CNCS-04-CPO-MMF-Member Management Files System,” which will be renamed “CNCS-04-CPO-MPMF Members Program Management Files System of Records”. The Office of the Chief Program Officer maintains CNCS-04-CPO-MMF-Member Management Files System, which contains information of individuals who apply to become an AmeriCorps service member (Applicants) and those who are or have been an active AmeriCorps service member (Members). The revisions update the system name, the purpose of the system, categories of records, categories of individuals, system managers, system location, and the routine uses of the system to reflect and meet new program management needs to promote and support Members and volunteer service and track the career pathway development of AmeriCorps Members, volunteers, and alumni.

DATES: Any comments must be received on or before September 12, 2024. Unless comments are received that would require a revision, this modified system of records will become effective on September 12, 2024.

ADDRESSES: You may submit comments identified by system name and number by any of the following methods:

1. Electronically through regulations.gov. Once you access regulations.gov, find the web page for this SORN by searching for AmeriCorps-04-CPO-MPMF-Member Management Files System.

2. By email at privacy@americorps.gov.

3. By mail: AmeriCorps, Attn: Bilal Razzaq, Chief Privacy Officer, OIT, 250 E Street SW, Washington, DC 20525.

4. By hand delivery or courier to AmeriCorps at the address for mail between 9:00 a.m. and 4:00 p.m. Eastern Standard Time, Monday through Friday, except for federal holidays.

Please note that all submissions received may be posted without change to regulations.gov, including any personal information. Commenters should be careful to include in their comments only information that they wish to make publicly available.

FOR FURTHER INFORMATION CONTACT: If you have general questions about the system of records, please contact ZhuoHong Liu at zliu@americorps.gov, by phone at 202-938-7868, or mail them to the address in the ADDRESSES section above. Please include the system of records' name and number.

SUPPLEMENTARY INFORMATION: AmeriCorps proposes to amend the existing system of records, CNCS-04-CPO-MMF-Member Management Files System, which was last published in the Federal Register at 85 FR 3896 (January 23, 2020).

The proposed revisions:

• Rename the system of records as CNCS-04-CPO-MPMF Members Program Management Files System of Records.

• Add new Routine Uses 35, 36, and 37 to meet the programmatic needs of AmeriCorps.

• Add tracking and supporting of the post-service career pathway development of AmeriCorps alumni as a purpose of the system.

• Add categories of the records to include information on AmeriCorps alumni post-service career pathways.

• Add categories of individuals to include alumni who have chosen to continuously participate in AmeriCorps' collaborative programs with other Federal, State, local agencies or Tribes.

• Add the Chief Data Officer of AmeriCorps as one of the system managers.

• Update the system locations to include the Office of Chief Data Officer.

In accordance with 5 U.S.C. 552a(r), AmeriCorps has provided a report of this system of records to the Office of Management and Budget and to Congress.

SYSTEM NAME AND NUMBER:

CNCS-04-CPO-MPMF-Member Program Management Files System of Records.

SECURITY CLASSIFICATION:

Unclassified.

SYSTEM LOCATION:

This system of records is maintained by the Office of the Chief Data Officer and the Office of the Chief Program Officer. Located at AmeriCorps, 250 E Street SW, Washington, DC 20525.

SYSTEM MANAGER(S):

Chief Program Officer, Chief Program Officer Immediate Office; Chief Data Officer. AmeriCorps, 250 E Street SW, Washington, DC 20525.

AUTHORITY FOR MAINTENANCE OF THE SYSTEM:

42 U.S.C. chapter 129—National and Community Service, 42 U.S.C. chapter 66—Domestic Volunteer Services, and Executive Order 9397, as amended.

PURPOSE(S) OF THE SYSTEM:

AmeriCorps uses the system to select, place, manage, oversee, and support individuals who apply to become an AmeriCorps service member (Applicants), and those who are or have been an active AmeriCorps service member (Members). AmeriCorps also uses the system to track and support the post-service career pathway development of AmeriCorps alumni who continuously show interest or/and actively participate in AmeriCorps' collaborative programs with other Federal, State, or local agencies or Tribes.

CATEGORIES OF INDIVIDUALS COVERED BY THE SYSTEM:

The system contains records about individuals who apply to become an AmeriCorps service member, individuals who are or have been an active AmeriCorps service member, individuals from the public asked to provide a reference for those individuals (References), and AmeriCorps alumni.

CATEGORIES OF RECORDS IN THE SYSTEM:

The categories cover records about Applicants, Members, alumni, and their references. It may contain personal identifiers including name, email addresses, physical addresses, phone numbers, Social Security Number, demographic information (including race, ethnicity, and any disabilities), birth date and location, username and password, National Service Participation Identification number (NSPID), marital status, fingerprints, citizenship status, government-provided identification documents, and information about post-service positions, including their relation to completed AmeriCorps' service and points of service times.

It may contain information about each Applicant's, Member's, and alumnus's:

• Application to become a member (e.g., reason for applying, educational history, employment history, military history, prior community service activities, criminal history, medical history, skills, certifications, voter registration status);

• Relatives who served in AmeriCorps and the military;

• AmeriCorps service history and experience (e.g., descriptions of activities, performance reviews, disciplinary concerns, accidents and other health concerns related to service, special accommodations, living arrangements, leave requests, service-related travel and trainings);

• Benefits (e.g., health benefits, childcare benefits, Education Awards, stipends, loan forbearance);

• Oath of office, plus other certifications and consents;

• Living allowances, reimbursements, and banking information;

• Emergency contacts and beneficiaries;

• Automobile and driving history (including insurance coverage and any accidents);

• Post-service plans and interest in alumni activities; and

• Information about post-service career pathway development.

It may also contain communications with and about each Applicant, Member, and alumnus.

The system may also contain each references' name, email, title, employer, address, phone number, relationship to the Applicant or Member, and assessment of the Applicant or Member.

RECORD SOURCE CATEGORIES:

The sources of records in the system may include, but are not limited to, Applicants, Members, alumni, references (including those selected by an Applicant or Member, parole officers, prior workplace supervisors), institutions that may receive an Education Award, organizations that request and receive Members (project sponsors), AmeriCorps employees and contractors, other AmeriCorps systems, the Social Security Administration (SSA), Department of Justice (DOJ) criminal history databases, Congresspersons and their staff, members of the public, and other Federal, State, local agencies or Tribes who have collaborative programs with AmeriCorps.

ROUTINE USES OF RECORDS MAINTAINED IN THE SYSTEM, INCLUDING CATEGORIES OF USERS AND PURPOSES OF SUCH USES:

In addition to those disclosures generally permitted under 5 U.S.C. 552a(b) of the Privacy Act of 1974, as amended, all or a portion of the records or information contained in the system may be disclosed to authorized entities, as is determined to be relevant and necessary, as a routine use pursuant to 5 U.S.C. 552a(b)(3) as follows:

1. To the SSA to confirm an Applicant's or Member's citizenship status.

2. To the DOJ to obtain an Applicant's or Member's criminal history information.

3. To Project Sponsors to recruit, select, place, manage, oversee, and support Members.

4. To a Member's emergency contacts and beneficiaries if that Member experiences an emergency or death.

5. To the Department of the Treasury to pay living allowances, reimbursements, and Education Awards.

6. If a Member asks to send all or part of their Education Award to an institution, AmeriCorps may disclose information from the system to confirm and coordinate the Member's request.

7. All records about FEMA Corps Members may be shared with the Federal Emergency Management Agency to operate FEMA Corps and manage those Members.

8. To other Members for alumni-related activities when the Member gives permission.

9. To the Office of the President, a Member of Congress, or their personnel in response to a request made on behalf of, and at the request of, the individual who is the subject of the record. These advocates will receive the same records that individuals would have received if they filed their own request.

10. To any component of the Department of Justice for the purpose of representing AmeriCorps or its components, officers, employees, or members in pending or potential litigation to which the record is pertinent.

11. In an appropriate proceeding before a court, judicial, administrative, or adjudicative body, or official, when AmeriCorps or another agency representing AmeriCorps determines the records are relevant and necessary to the proceeding, or in an appropriate proceeding before an administrative or adjudicative body when the adjudicator determines the records to be relevant to the proceeding.

12. To a Federal or State agency, judicial, administrative, or adjudicative body, another party, or their representative to a legal matter, or witness when (a) the Federal Government is a party or potential party to a judicial, administrative, or adjudicative proceeding and (b) the record is both necessary and relevant or potentially relevant to that proceeding.

13. To prospective claimants and their attorneys to negotiate a settlement of an actual or prospective claim against AmeriCorps or its current or former employees, in advance of the initiation of a formal legal proceeding.

14. To an arbiter, mediator, or another individual authorized to investigate or settle a grievance, complaint, or appeal filed by an individual who is the subject of, or party to, the record.

15. To any agency, entity, or individual when necessary to acquire information relevant to an investigation.

16. To an appropriate Federal, State, local, Tribal, international, or foreign law enforcement agency or other appropriate authority charged with investigating or prosecuting a violation or enforcing or implementing a statute, rule, regulation, or order, when a record, either on its face or in conjunction with other information, indicates a violation or potential violation of civil or criminal law or regulatory violations.

17. To a former AmeriCorps employee for the purpose of responding to an official inquiry by a Federal, State, local, territorial, or tribal entity or professional licensing authority, for the purpose of facilitating communications with a former employee that may be necessary for personnel-related or other official purposes where AmeriCorps requires information and/or consultation assistance from the former employee regarding a matter within that person's former area of responsibility.

18. To unions recognized as exclusive bargaining representatives under the Civil Service Reform Act of 1978, 5 U.S.C. 7111 and 7114, the Merit Systems Protection Board, arbitrators, the Federal Labor Relations Authority, and other parties responsible for the administration of the Federal labor-management program for the purpose of processing any corrective actions, or grievances, or conducting administrative hearings or appeals.

19. To the Merit Systems Protection Board and the Office of the Special Counsel for the purpose of litigation, including administrative proceedings, appeals, special studies of the civil service and other merit systems; review of Office of Personnel Management (OPM) or component rules and regulations; investigation of alleged or possible prohibited personnel practices, including administrative proceedings involving any individual subject of an AmeriCorps investigation.

20. To OPM for the purpose of addressing civilian pay and leave, benefits, retirement deduction, and any other information necessary for the OPM to carry out its legally authorized government-wide personnel management functions and studies.

21. To appropriate agencies, entities, and persons when:

a. AmeriCorps suspects or has confirmed that there has been a breach of the system of records;

b. AmeriCorps has determined that as a result of the suspected or confirmed breach there is a risk of harm to individuals, AmeriCorps (including its information systems, programs, and operations), the Federal Government, or national security; and

c. The disclosure made to such agencies, entities, and persons is reasonably necessary to assist in connection with AmeriCorps' efforts to respond to the suspected or confirmed breach or to prevent, minimize, or remedy such harm.

22. To another Federal agency or Federal entity, when AmeriCorps determines that information from the system of records is reasonably necessary to assist the recipient agency or entity in:

a. Responding to a suspected or confirmed breach or

b. Preventing, minimizing, or remedying the risk of harm to individuals, the recipient agency or entity (including its information systems, programs, and operations), the Federal Government, or national security, resulting from a suspected or confirmed breach.

23. To the National Archives and Records Administration (NARA) as needed to assist AmeriCorps with records management, conduct inspections of AmeriCorps' records management practices, and carry out other activities required by 44 U.S.C. 2904 and 2906.

24. To NARA's Office of Government Information Services so that it may review agency compliance with the Freedom of Information Act of 1967, as amended (FOIA), provide mediation services to resolve FOIA disputes, and identify policies and procedures for improving FOIA compliance, and to the extent necessary to fulfill its responsibilities as required by 5 U.S.C. 552(h)(2)(A-B) and (3).

25. To respond to a FOIA request per the processes established in 45 CFR part 2507 or a Privacy Act request per the requirements in 45 CFR part 2508.

26. To a Federal agency in connection with hiring or retaining an employee, vetting an applicant, member, or employee in response to the issuance of a security clearance, conducting a background check for suitability or security investigation of an individual, classifying jobs, the letting of a contract, or the issuance of a license, contract, grant, or other benefit by the requesting agency, and to the extent that the information is relevant and necessary to the requesting agency's decision on the matter.

27. To agency contractors, grantees, project sponsors, interns, and other authorized individuals engaged to assist the agency in the performance of a project, contract, service, grant, cooperative agreement, or other activity when it requires access to the records to accomplish an agency function, task, or assignment. Individuals provided information under this routine use are subject to the same Privacy Act requirements and limitations on disclosure as are applicable to AmeriCorps employees.

28. To the Equal Employment Opportunity Commission when requested in connection with investigations into alleged or possible discrimination practices in the Federal sector, compliance by Federal agencies with the Uniform Guidelines on Employee Selection Procedures, or other functions vested in the Commission and to otherwise ensure compliance with the provisions of 5 U.S.C. 7201.

29. To an agency or organization to audit or oversee AmeriCorps' or a vendor's operations as authorized by law, but only such information as is necessary and relevant to such audit or oversight function.

30. To any official or designee charged with the responsibility to conduct qualitative assessments at a designated statistical agency and other well established and trusted public or private research organizations, academic institutions, or agencies for an evaluation, study, research, or other analytical or statistical purpose.

31. To a contractor, grantee, or other recipient of Federal funds when the record to be released reflects serious inadequacies with the recipient's personnel, and disclosure of the record permits the recipient to effect corrective action in the Federal Government's best interests.

32. To a contractor, grantee, or other recipient of Federal funds indebted to the Federal Government through its receipt of Federal funds if release of the record would allow the debtor to collect from a third party.

33. To consumer reporting agencies (as defined in the Fair Credit Reporting Act, or the Federal Claims Collection Act of 1966, 31 U.S.C. 3701(a)(3)), the U.S. Department of the Treasury, other Federal agencies maintaining debt servicing centers, and private collection contractors to collect a debt owed to the Federal Government as provided in regulations promulgated by AmeriCorps.

34. To the news media and the public, with the approval of the Chief Privacy Officer in consultation with counsel, when there exists a legitimate public interest in the disclosure of the information, when disclosure is necessary to preserve confidence in the integrity of AmeriCorps, or when disclosure is necessary to demonstrate the accountability of AmeriCorps officers, employees, or individuals covered by the system, except to the extent the Chief Privacy Officer determines that release of the specific information in the context of a particular case would constitute a clearly unwarranted invasion of personal privacy.

35. To Federal, State, local agencies, or tribal entities that have collaborative relations with AmeriCorps for program development and recruitment.

36. To an entity that AmeriCorps members, volunteers, or alumni consent to share service information with for post-service career pathway development, tracking, study, or reference.

37. To a third party with valid authorization from an AmeriCorps member to share information regarding the duration and description of the authorized benefits that a member receives from AmeriCorps.

POLICIES AND PRACTICES FOR STORAGE OF RECORDS:

AmeriCorps stores paper records in locked rooms, file cabinets, and desks. Electronic records and backups are stored on secure servers and encrypted media to include computers and network drives.

POLICIES AND PRACTICES FOR RETRIEVAL OF RECORDS:

Records in the system may be retrieved by any of the personal identifiers listed or described in CATEGORIES OF RECORDS IN THE SYSTEM.

POLICIES AND PRACTICES FOR RETENTION AND DISPOSAL OF RECORDS:

All records in the system will be retained until their retention and disposal schedule is approved by NARA, then retained and disposed according to the applicable schedule.

ADMINISTRATIVE, TECHNICAL, AND PHYSICAL SAFEGUARDS:

AmeriCorps safeguards records in this system according to applicable laws, rules, and policies, including all applicable AmeriCorps automated systems security and access policies. AmeriCorps has strict controls in place to minimize the risk of compromising the information that is being stored. Access to the computer system containing the records in this system is limited to those individuals who have a need to know the information for the performance of their official duties and who have appropriate clearances or permissions.

RECORD ACCESS PROCEDURES:

In accordance with 45 CFR part 2508—Implementation of the Privacy Act of 1974, as amended, individuals wishing to access their own records stored within the system of records may contact the FOIA Officer/Privacy Act Officer by sending (1) an email to FOIA@americorps.gov or (2) a letter addressed to the System Manager, Attention: Privacy Inquiry. Individuals who make a request must include enough identifying information to locate their records and reasonably confirm their identity, as required by 45 CFR part 2508, and indicate that they want to access their records.

CONTESTING RECORD PROCEDURES:

All requests to contest or amend information maintained in the system will be directed to the FOIA Officer/Privacy Act Officer. Individuals who make a request must include enough identifying information to locate their records, in the manner described above in the Record Access Procedures section. Requests should state clearly and concisely what information is being contested, the reasons for contesting it, and the proposed amendment to the information.

NOTIFICATION PROCEDURES:

Any individual desiring to contest or amend information not subject to exemption may contact the FOIA Officer/Privacy Act Officer via the contact information in the Record Access Procedures section. Individuals who make a request must include enough identifying information to locate their records, indicate that they want to be notified whether their records are included in the system, and confirm their identity as required by 45 CFR part 2508.

EXEMPTIONS PROMULGATED FOR THE SYSTEM:

None.

HISTORY:

CNCS-04-CPO-MMF-Member Management Files System issued 85 FR 3896 (January 23, 2020).

Prabhjot Bajwa,
Senior Agency Official for Privacy and Chief Information Officer.

[FR Doc. 2024-17951 Filed 8-12-24; 8:45 am]

BILLING CODE 6050-28-P